CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Peter Boynton, at (202) 606-5000, extension 499, (PBoynton@cns.gov); (TTY/TDD) at (202) 606-5256 between the hours of 9 a.m. and 4 p.m. Eastern Standard Time, Monday through Friday.

Comments should be sent to the Office of Management and Budget, Office of Information and Regulatory Affairs, Room 10235, Attn: Ms. Brenda Aguilar, OMB Desk Officer for the Corporation for National and Community Service, Washington, DC 20503, within 30 days from the date of publication in this Federal Register.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

The Corporation is seeking public comment pursuant to final approval of a web-based senior service recruitment system, called “Join Senior Service Now” (JASON), that will enable older Americans who are interested in volunteering to match their interests and talents with community homeland security and other critical community needs that have been identified by local National Senior Service Corps (Senior Corps) grant projects. This system was deployed on April 3, 2002 after being granted a six month emergency approval by OMB, and can be accessed by the public at the following Web site: http://www.joinseniorservice.org.

Type of Review: Renewal.

Agency: Corporation for National and Community Service.

Title: National Senior Service Corps “Join Senior Service Now” (JASON).

OMB Number: 3045-00778.

Agency Number: None.

Affected Public: Prospective senior volunteers.

Total Respondents: 2,340,000.

Frequency: At the discretion of respondents.

Average Time Per Response: 0.25 hours for initial response; 0.7 hours for subsequent responses.

Estimated Total Burden Hours: 413,400 hours.

Total Burden Cost (capital/startup): None.

Total Burden Cost (operating/maintenance): None.

Dated: September 24, 2002.
Tess Scanell,
Director, National Senior Service Corps.

[FR Doc. 02-24740 Filed 9-27-02; 8:45 am]

BILLING CODE 6050-$$-P